DEPARTMENT OF LABOR

Employment and Training Administration

[NAFTA-03732]

Custom Emblems, Inc., Including Leased Workers of Total Employment Company, Tampa, Florida; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on May 12, 2000, applicable to workers of Custom Emblems, Inc., Tampa, Florida. The notice was published in the Federal Register on May 31, 2000 (65 FR 34734).

At the request of the State agency, the Department reviewed the certification for workers of the subject firm. New information shows that some workers of Custom Emblems, Inc. were leased from Total Employment Company to produce embroidered name tags and emblems at the Tampa, Florida facility. Information also shows that workers separated from employment at Custom Emblem, Inc. had their wages reported under a separate unemployment insurance (UI) tax account for Total Employment Company.

Based on these findings, the Department is amending the certification to include workers of Total Employment Company, Tampa, Florida leased to Custom Emblems, Inc., Tampa, Florida.

The intent of the Department's certification is to include all workers of Custom Emblems, Inc. adversely affected by imports from Mexico.

The amended notice applicable to NAFTA-03732 is hereby issued as follows:

All workers of Custom Emblems, Inc., Tampa, Florida and leased workers of Total Employment Company, Tampa, Florida engaged in employment related to the production of embroidered name tags and emblems for Custom Emblems, Inc., Tampa, Florida who became totally or partially separated from employment on or after February 21, 1999 through May 12, 2002 are eligible to apply for NAFTA-TAA under section 250 of the Trade Act of 1974.

Dated: Signed at Washington, DC this 14th day of July, 2000.
Grant D. Beale,
Program Manager, Division of Trade Adjustment Assistance.

[FR Doc. 00-18610 Filed 7-21-00; 8:45 am]

BILLING CODE 4510-30-M